DEPARTMENT OF ENERGY

Floodplain Statement of Findings for the Title Transfer of Parcel ED-1, Oak Ridge Reservation, Oak Ridge, Tennessee

AGENCY: Oak Ridge Operations, U.S. Department of Energy (DOE).

ACTION: Notice of floodplain statement of findings.

SUMMARY: This is a floodplain statement of findings prepared in accordance with 10 CFR part 1022, Compliance with floodplain/wetlands environmental review requirements. A floodplain assessment was conducted and incorporated in an environmental assessment (EA) addendum that evaluated the potential impacts of transferring title to the developable portions of Parcel ED-1 located on the Oak Ridge Reservation, Roane County, Tennessee. The floodplain assessment describes the possible effects, alternatives, and measures designed to avoid or minimize potential harm to the affected floodplain or its flood storage potential. DOE will endeavor to allow 15 days of public review after publication of the Statement of Findings before implementation of the Proposed Action.

FOR FURTHER INFORMATION CONTACT: Mr. David R. Allen, NEPA Compliance Officer, U.S. Department of Energy, Oak Ridge Operations Office, P.O. Box 2001, MS-SE-30-1, Oak Ridge, TN 37831, (865) 576-0411.

For Further Information On General DOE Floodplain/Wetlands Review Requirements, Contact: Carol M. Borgstrom, Director, Office of NEPA Policy and Assistance, EH-42, U.S. Department of Energy, 1000 Independence Avenue SW., Washington, DC 20585, (202) 586-4600 or (800) 472-2756.

SUPPLEMENTARY INFORMATION: A Notice of Floodplain and Wetland Involvement was published in the Federal Register on June 20, 2002 (67 FR 41970) and a floodplain assessment was incorporated in the EA Addendum. DOE is proposing to transfer title to the developable portions of Parcel ED-1 to Horizon Center LLC for the continued development of an industrial/business park. Parcel ED-1 contains approximately 287 acres of the 100-year floodplain of East Fork Poplar Creek (EFPC). The portion of the EFPC floodplain within Parcel ED-1 is outside of the limits of the existing City of Oak Ridge Flood Insurance Rate Maps. Limited encroachment into the 100-year floodplain, which was covered under a U.S. Corps of Engineers Nationwide Permit (33 CFR part 330), has already occurred during construction activities associated with the initial development of Parcel ED-1 under the lease. No additional adverse direct or indirect impacts to the floodplain are expected except for potential minor encroachments into two small areas of the floodplain in the developable areas. These encroachments would be for construction of a parking area and road and bridge improvements. Alternatives to the proposed action that were considered included no action and mitigation (avoidance and minimization). The proposed action will conform to all applicable floodplain protection standards including regulation by the U.S. Army Corps of Engineers, Tennessee Department of Environment and Conservation, and if required, the Tennessee Valley Authority.

Mitigation of adverse impacts to the floodplain include minimizing the potentially impacted areas to the smallest amount practicable and implementing best management practices, such as sediment controls to reduce or prevent soil erosion and runoff and minimum grading requirements that reduce land disturbance on steep slopes adjacent to the floodplain and stream. The appropriate engineering studies will be completed and the appropriate permits obtained prior to any action in the floodplain. The amount of fill material potentially needed should not adversely impact the floodway or affect flooding conditions. Also, no critical actions, as defined in 10 CFR part 1022 will occur as a result of the proposed action.

Issued in Oak Ridge, Tennessee, on March 24, 2003.
James L. Elmore,
Alternate National Environmental Policy Act Compliance Officer.

[FR Doc. 03-7926 Filed 4-1-03; 8:45 am]

BILLING CODE 6450-01-P